DEPARTMENT OF THE INTERIOR

National Park Service

[NPS-IMR-ROMO-11943; PPIMROMO60 PAN00AN53.NM0000]

Grand Ditch Breach Restoration, Final Environmental Impact Statement, Rocky Mountain National Park, Colorado

AGENCY: National Park Service, Department of the Interior.

ACTION: Notice of Availability of the Final Environmental Impact Statement for the Grand Ditch Breach Restoration, Rocky Mountain National Park.

SUMMARY: Pursuant to the National Environmental Policy Act of 1969, 42 U.S.C. 4332(2)(C), the National Park Service announces the availability of a Final Environmental Impact Statement for the Grand Ditch Breach Restoration, Rocky Mountain National Park, Colorado.

DATES: The National Park Service will execute a Record of Decision (ROD) no sooner than 30 days following publication by the Environmental Protection Agency of the Notice of Availability of the Final Environmental Impact Statement.

ADDRESSES: Information will be available for public inspection online at http://parkplanning.nps.gov/romo, in the office of the Superintendent, Vaughn Baker, 1000 US Highway 36, Estes Park, CO 80517-8397, 970-586-1200 and at the Public Information Office, Rocky Mountain National Park, 1000 US Highway 36, Estes Park, Colorado 80517-8397.

FOR FURTHER INFORMATION CONTACT: Public Information Office, Rocky Mountain National Park, 1000 US Highway 36, Estes Park, Colorado 80517-8397, (970) 586-1206.

SUPPLEMENTARY INFORMATION: The document describes five management alternatives including a no-action alternative and the National Park Service preferred alternative. The anticipated environmental impacts of those alternatives are analyzed. The final document also includes responses to substantive comments from the public, cooperating agencies, and government agencies. The no-action alternative, alternative A, would extend existing conditions and management trends into the future. This alternative serves as a basis of comparison for evaluating the action alternatives. Minimal restoration, alternative B, would emphasize less intensive management activity to restore portions of the impacted area. This alternative would focus actions on areas that are unstable and present a high potential of continued degradation of ecosystem resources and services. High restoration, alternative C, would involve more intensive management actions over large portions of the impacted area. This alternative would focus actions on unstable areas that present a high to moderate potential of continued degradation of existing ecosystem resources and services. The preferred alternative, alternative D, would emphasize the removal of large debris deposits in the alluvial fan area and in the Lulu City wetland. Actions would be conducted to stabilize limited areas of unstable slopes and banks throughout the upper portions of the restoration area. Hydrology through the Lulu City wetland would be restored in the historical central channel through removal of large deposits of debris, relying on the historical channel to transport river flow. Small-scale motorized equipment would be employed for stabilization and revegetation activities, while larger equipment would be employed for excavation of large debris deposits and reconfiguration of the Colorado River through the Lulu City wetland. This alternative would include stabilization of zone 1A under the preferred option, option 1. Maximum restoration, alternative E, would involve extensive management activity and use of motorized equipment over large portions of the impacted area to restore the damage.

Dated: December 20, 2012.
John Wessels,
Director, Intermountain Region, National Park Service.

[FR Doc. 2013-12848 Filed 5-29-13; 8:45 am]

BILLING CODE 4312-CB-P